DEPARTMENT OF DEFENSE

Office of the Secretary

[Transmittal Nos. 10-32 and 10-35]

36(b)(1) Arms Sales Notifications

AGENCY: Defense Security Cooperation Agency, DoD.

ACTION: Notice.

SUMMARY: The Department of Defense is publishing the unclassified text of two section 36(b)(1) arms sales notifications to fulfill the requirements of section 155 of Public Law 104-164, dated 21 July 1996.

FOR FURTHER INFORMATION CONTACT: Ms. B. English, DSCA/DBO/CFM, (703) 601-3740.

SUPPLEMENTARY INFORMATION: The following are copies of letters to the Speaker of the House of Representatives, Transmittals 10-32 and 10-35 with associated attachments.

Dated: August 2, 2010.
Mitchell S. Bryman,
Alternate OSD Federal Register Liaison Officer, Department of Defense.

Transmittal No. 10-32

The following is a copy of a letter to the Speaker of the House of Representatives, Transmittal 10-32 with attached transmittal, policy justification, and Sensitivity of Technology.

BILLING CODE 5001-06-P

Transmittal No. 10-35

The following is a copy of a letter to the Speaker of the House of Representatives, Transmittal 10-35 with attached transmittal, policy justification, and Sensitivity of Technology.

[FR Doc. 2010-19284 Filed 8-4-10; 8:45 am]

BILLING CODE 5001-06-C